DEPARTMENT OF ENERGY

Amended Record of Decision for the Remediation of the Moab Uranium Mill Tailings, Grand and San Juan Counties, UT

AGENCY: Office of Environmental Management, U.S. Department of Energy.

ACTION: Amended Record of Decision.

SUMMARY: The U.S. Department of Energy (DOE) is amending its decision regarding the transportation method that DOE will use to relocate uranium mill tailings and other contaminated materials (residual radioactive material) at the Moab milling site and vicinity properties in Utah. In its Record of Decision for the Remediation of the Moab Uranium Mill Tailings, Grand and San Juan Counties, Utah (70 FR 55358; September 21, 2005), DOE had decided to relocate the residual radioactive material using predominately rail, with truck transport for some oversized materials. Under this amended Record of Decision (ROD), DOE will use either truck and/or rail for all materials.

This ROD amendment is essential to give DOE flexibility needed to expedite completion of the Moab, Utah, Uranium Mill Tailings Remedial Action (UMTRA) Project. Expediting completion is in accordance with Congressional direction (Section 3402 of the National Defense Authorization Act for 2008 (Pub. L. 110-181)). This ROD amendment meets the strong stakeholder desire to relocate the residual radioactive material as soon as practicable by accelerating the date of the first shipment because truck shipments could start sooner since the logistics of initiating the rail alternative would require time to safely implement (i.e. building the hillside loadout infrastructure). In addition long-term risks would be reduced through earlier completion, and reducing total project costs would be reduced through greater flexibility and competition between rail and truck transporters.

DOE analyzed several transportation methods in its Remediation of the Moab Uranium Mill Tailings, Grand and San Juan Counties, Utah, Final Environmental Impact Statement (DOE/EIS-0355)(Final EIS), issued in August 2005. An all truck option was among the reasonable alternative methods analyzed in the Final EIS for transporting the residual radioactive material. This ROD amendment allows an increase in the quantity to be shipped by truck. All other aspects of DOE's original decision remain unchanged, including that DOE will relocate the residual radioactive material at the Moab site and vicinity properties to a new disposal site 30 miles north at Crescent Junction, Utah, and will conduct active remediation of contaminated groundwater at the Moab site.

This ROD amendment has been prepared in accordance with the regulations of the Council on Environmental Quality (Title 40 Code of Federal Regulations [CFR] parts 1500-1508) for implementing the National Environmental Policy Act (NEPA) and DOE's NEPA Implementing Procedures (10 CFR part 1021). Based on information previously provided in the Final EIS, DOE has determined that no further review under NEPA is required.

ADDRESSES: Copies of this ROD amendment may be requested by contacting Mr. Donald Metzler, Moab Federal Project Director, U.S. Department of Energy, by mail: 200 Grand Avenue, Grand Junction, Colorado, 81501; by phone: 1-800-637-4575 or 1-970-257-2115; by fax: 1-970-257-2175; or e-mail: moabcomments@gjem.doe.gov. This ROD amendment will be available on the DOE NEPA Web site, at http://www.eh.doe.gov/nepa/documents.html, and on the project Web site at http://www.gjem.energy.gov/moab/.

FOR FURTHER INFORMATION CONTACT: For further information on this amended ROD, contact Donald Metzler, as indicated in the ADDRESSES section above. For general information on the DOE NEPA process, contact Carol Borgstrom, Director, Office of NEPA Policy and Compliance, GC-20, U.S. Department of Energy, 1000 Independence Avenue, SW., Washington, DC 20585; telephone 1-202-586-4600, or leave a message at 1-800-472-2756.

SUPPLEMENTARY INFORMATION: DOE analyzed several transportation methods in its Remediation of the Moab Uranium Mill Tailings, Grand and San Juan Counties, Utah, Final Environmental Impact Statement (DOE/EIS-0355) (Final EIS), issued in August 2005. An all truck option was among the reasonable alternative methods analyzed in the Final EIS for transporting the residual radioactive material. DOE also analyzed transportation by rail and slurry pipeline. In DOE's original ROD, issued in September 2005, DOE had decided to relocate the residual radioactive material using predominately rail, with truck transport for some oversized materials. Under this amended Record of Decision (ROD), DOE will use truck and/or rail for all materials.

This ROD amendment allows an increase in the quantity to be shipped by truck. All other aspects of DOE's original decision remain unchanged, including that DOE will relocate the residual radioactive material at the Moab site and vicinity properties to a new disposal site 30 miles north at Crescent Junction, Utah, and will conduct active remediation of contaminated groundwater at the Moab site.

This ROD amendment has been prepared in accordance with the regulations of the Council on Environmental Quality (Title 40 Code of Federal Regulations [CFR] parts 1500-1508) for implementing the National Environmental Policy Act (NEPA) and DOE's NEPA Implementing Procedures (10 CFR part 1021). Based on information previously provided in the Final EIS, DOE has determined that no further review under NEPA is required.

Basis for Decision: Trucking will be performed primarily during daylight hours, thus minimizing potential safety hazards. The trucking option allows DOE more control over the schedule by giving the additional flexibility to supplement rail transport and avoid potential project delays.

This ROD amendment is essential to give DOE flexibility needed to expedite completion of the Moab, Utah, Uranium Mill Tailings Remedial Action (UMTRA) Project. Expediting completion is in accordance with Public Law 110-181, which directs DOE to complete remediation of the Moab site and the removal of the tailings to the Crescent Junction site in Utah by October 1, 2019 and, if DOE is unable to do so, DOE must submit a plan to Congress by October 2, 2019, with the projected completion date and estimated funding. This ROD amendment meets the strong stakeholder desire to relocate the residual radioactive material as soon as practicable by accelerating the date of the first shipment, reducing long-term risks through earlier completion, and reducing total project costs through greater flexibility and competition between rail and truck transporters. This amended decision incorporates all practicable means to avoid or minimize environmental harm. Although DOE identified in its original ROD rail transportation as part of the environmentally preferred alternative, the analyses in the Final EIS show that truck transportation also can be conducted in a safe and environmentally sound manner. In view of the acceleration of long-term risk reduction at the Moab site that use of both truck and rail will afford, DOE now regards rail and truck transportation as equally environmentally preferable.

Issued in Washington, DC, this 25th day of February 2008.
Inés R. Triay
Acting, Assistant Secretary for Environmental Management.

[FR Doc. E8-3931 Filed 2-28-08; 8:45 am]

BILLING CODE 6450-01-P